DEPARTMENT OF AGRICULTURE

Food and Nutrition Service

Agency Information Collection Activities: Proposed Collection; Comment Request—People's Garden Initiative Evaluation of Healthy Gardens Healthy Youth Project

AGENCY: Food and Nutrition Service, USDA.

ACTION: Notice.

SUMMARY: In accordance with the Paperwork Reduction Act of 1995, this notice invites the general public and other public agencies to comment on proposed information collections. This is a new information for the “Healthy Gardens, Healthy Youth Study,” part of the USDA's People's Garden program. This study will use the network of Cooperative Extension Educators to collect information from children in schools that have agreed to participate in the study in four states: Arkansas, Iowa, New York, and Washington. The information collected will build on existing knowledge by examining how school gardens affect children's fruit and vegetable consumption and other outcomes.

DATES: Written comments on this notice must be received on or before December 12, 2011.

ADDRESSES: Comments are invited on: (1) Whether the proposed collection of information is necessary for the proper performance of the functions of the agency, including whether the information shall have practical utility; (2) the accuracy of the agency's estimate of the burden of the proposed collection of information, including the validity of the methodology and assumptions that were used; (3) ways to enhance the quality, utility, and clarity of the information to be collected; and (d) ways to minimize the burden of the collection of information on those who are to respond, including use of appropriate automated, electronic, mechanical, or other technological collection techniques or other forms of information technology.

Comments may be sent to: Duke Storen, Director, Office of Strategic, Initiatives, Partnership and Outreach, Food and Nutrition Service, U.S. Department of Agriculture, 3101 Park Center Drive, Room 1441, Alexandria, VA 22302. Comments may also be submitted via e-mail to Duke.Storen@fns.usda.gov. Be sure to include the title of the notice in the subject line of the message. Comments will also be accepted through the Federal eRulemaking Portal. Go to http://www.regulations.gov, and follow the online instructions for submitting comments electronically.

All written comments will be open for public inspection at the office of the Food and Nutrition Service during regular business hours (8:30 a.m. to 5 p.m., Monday through Friday) at 3101 Park Center Drive, Alexandria, Virginia 22302, Room 1441.

All responses to this Notice will be summarized and included in the request for OMB approval, and will become a matter of public record.

FOR FURTHER INFORMATION CONTACT: Requests for additional information or copies of the information collection form and instructions should be directed to: Duke Storen, (703) 305-1431.

SUPPLEMENTARY INFORMATION: Title: Healthy Gardens, Healthy Youth.

OMB Number: 0584-New.

Form Number: Not Yet Assigned.

Expiration Date: Not Yet Determined.

Type of Request: New collection.

Abstract: The People's Garden Initiative Evaluation of Healthy Gardens Healthy Youth Project is authorized under the Richard B. Russell National School Lunch Act (42 U.S.C. 1769(g)(3)) and section 14222(b) of the Food, Conservation, and Energy Act of 2008. The Healthy Gardens, Healthy Youth project, part of the USDA's People's Garden program, was funded by FNS in April, 2011. Prior research has suggested that school gardens may contribute to increased fruit and vegetable consumption among youth. This study will evaluate the impact of those gardens and examine how school gardens along with garden curricula to link classrooms to gardens will affect diet outcomes among youth in under-resourced communities. At all participating schools, at least 50% of children qualify for Free or Reduced Price Meals (FRPM). Up to seventy schools in four states (AK, IA, NY, WA) will be partners in this study and will be randomly assigned to one of two conditions: (1) A treatment group of no more than 34 schools will receive the garden intervention and curricula in year 1; and (2) a waitlist control group of approximately 34 schools will receive gardens near the end of the project. In each school, 2nd and 4th and/or 5th grade classes will participate.

Affected Public: Individual/Household, State, Local and Tribal Government. The proposed data collection activities will require three types of respondent groups: individual students who participate in the study; parents or guardians who will be asked to complete some surveys; and school personnel including principals and teachers.

Estimated Number of Respondents: The total estimated number of sample members is 25,259 (only a portion of these individual will be recruited). This total includes 469 staff (approximately 7 staff members at each of the 67 schools (i.e., principal, food service manager, physical education director, on average 268 teachers)); 5,360 youth (80 at each of the 67 schools); and 5,360 parents (80 at each of the 67 schools). Of the 5,360 youth, 2,680 will be in the intervention group; 2,680 in the control group. The total estimated number of children respondents to the survey is 4,824 (90% of 5360). The total of the estimated parent/guardian respondents is 3,216 (60% of 5360).

State Agencies (SA)

Number of Responses per Respondent: 469.

Estimated Frequency of Responses per Respondent: 1.57.

Estimated Total Annual Responses per Respondent: 737.

Estimated Time per Response: 0.82 minutes (approximately 50 minutes).

Estimated Total Annual Burden Hours (SA): 603.

Individual/Household

Number of Responses per Respondent: 10,720.

Estimated Frequency of Responses per Respondent: 2 .

Estimated Total Annual Responses per Respondent: 21,440.

Estimated Time per Response: 1.15 hour.

Estimated Total Annual Burden Hours for SA & I/H: 11,189.

See Table 1 below for the estimated total burden for each type of respondent by instrument type.

Table 1
Affected public | Respondent type | Instrument | Number of respondents | Avg. number of responses per respondent | Total annual responses | Hours per response | Total burden
Schools | School principals | Interview | 67 | 1.00 | 67.00 | .50 | 33.50
| Food Service Manager | Interview | 67 | 1.00 | 67.00 | .25 | 16.75
| Physical Education Director | Interview | 67 | 1.00 | 67.00 | .25 | 16.75
| Teacher | Questionnaire | 268 | 2.00 | 536.00 | 1.00 | 536.00
Total SA Reporting burden |  |  | 469 | 1.57 | 737.00 | .82 | 603.00
Individual/Household | Children | Questionnaire | 4,824 536 | 3.00 0 | 14,472.00 0 | 1.20 0 | 17,366.40 0
| Nonrespondents ¹ | Questionnaire | 3216 | 1.00 | 3,216.00 | 1.00 | 3,216.00
| Parents/Guardians nonrespondents |  | 2144 | 1.00 | 2,144.00 | .05 | 107.20
Total I/H Burden |  |  | 10,720 |  | 19,832.00 |  | 20,689.60
Total Burden |  |  | 11,189 |  | 20,569.00 |  | 21,292.60
¹ We anticipate that some students will be absent. For this reason we estimate 90% response rate among children.

Dated: October 3, 2011.
Audrey Rowe,
Administrator, Food and Nutrition Service.

[FR Doc. 2011-26145 Filed 10-7-11; 8:45 am]

BILLING CODE 3410-30-P